DEPARTMENT OF ENERGY

Federal Energy Regulatory Commission

Combined Notice of Filings #2

Take notice that the Commission received the following electric rate filings:

Docket Numbers: ER22-2970-000.

Applicants: AEP Generation Resources Inc.

Description: § 205(d) Rate Filing: MBR Tariff FERC Electric Tariff For Market-Based Sales to be effective 11/28/2022.

Filed Date: 9/30/22.

Accession Number: 20220930-5198.

Comment Date: 5 p.m. ET 10/21/22.

Docket Numbers: ER22-2971-000.

Applicants: Ohio Valley Electric Corporation.

Description: § 205(d) Rate Filing: MBR Category Status Amendment to be effective 11/28/2022.

Filed Date: 9/30/22.

Accession Number: 20220930-5201.

Comment Date: 5 p.m. ET 10/21/22.

Docket Numbers: ER22-2972-000.

Applicants: Alabama Power Company, Georgia Power Company, Mississippi Power Company.

Description: § 205(d) Rate Filing: Alabama Power Company submits tariff filing per 35.13(a)(2)(iii): Macon Parkway Solar Project LGIA Amendment Filing to be effective 9/16/2022.

Filed Date: 9/30/22.

Accession Number: 20220930-5203.

Comment Date: 5 p.m. ET 10/21/22.

Docket Numbers: ER22-2973-000.

Applicants: Alabama Power Company, Georgia Power Company, Mississippi Power Company.

Description: § 205(d) Rate Filing: Alabama Power Company submits tariff filing per 35.13(a)(2)(iii): Chautauqua Solar Affected System Upgrade Agreement Amendment Filing to be effective 8/19/2022.

Filed Date: 9/30/22.

Accession Number: 20220930-5205.

Comment Date: 5 p.m. ET 10/21/22.

Docket Numbers: ER22-2974-000.

Applicants: Southwest Power Pool, Inc., Nebraska Public Power District.

Description: § 205(d) Rate Filing: Southwest Power Pool, Inc. submits tariff filing per 35.13(a)(2)(iii): Nebraska Public Power District Revisions to Formula Rate Protocols to be effective 11/30/2022.

Filed Date: 9/30/22.

Accession Number: 20220930-5231.

Comment Date: 5 p.m. ET 10/21/22.

Docket Numbers: ER22-2975-000.

Applicants: Mid-Atlantic Interstate Transmission, LLC, PJM Interconnection, L.L.C.

Description: § 205(d) Rate Filing: Mid-Atlantic Interstate Transmission, LLC submits tariff filing per 35.13(a)(2)(iii): MAIT submits Seven ECSAs, SA Nos. 6494-6499 and 6620 to be effective 11/30/2022.

Filed Date: 9/30/22.

Accession Number: 20220930-5234.

Comment Date: 5 p.m. ET 10/21/22.

Docket Numbers: ER22-2976-000.

Applicants: WPPI Energy.

Description: Initial rate filing: Normal filing Rate Schedule FERC No. 3 to be effective 12/1/2022.

Filed Date: 9/30/22.

Accession Number: 20220930-5243.

Comment Date: 5 p.m. ET 10/21/22.

Docket Numbers: ER22-2977-000.

Applicants: Basin Electric Power Cooperative.

Description: § 205(d) Rate Filing: Basin Electric Submits Revised Wholesale Power Contract Rate Schedule No. 11 to be effective 10/1/2022.

Filed Date: 9/30/22.

Accession Number: 20220930-5251.

Comment Date: 5 p.m. ET 10/21/22.

Docket Numbers: ER22-2978-000.

Applicants: Appalachian Power Company

Description: § 205(d) Rate Filing: FERC Electric Tariff For Market-Based Sales Tariff to be effective 11/28/2022.

Filed Date: 9/30/22.

Accession Number: 20220930-5257.

Comment Date: 5 p.m. ET 10/21/22.

Docket Numbers: ER22-2979-000.

Applicants: American Transmission Systems, Incorporated, PJM Interconnection, L.L.C.

Description: § 205(d) Rate Filing: American Transmission Systems, Incorporated submits tariff filing per 35.13(a)(2)(iii): ATSI submits Seven ECSAs, SA Nos. 6143, 6500-6502 and 6616—6618 to be effective 11/30/2022.

Filed Date: 9/30/22.

Accession Number: 20220930-5268.

Comment Date: 5 p.m. ET 10/21/22.

Docket Numbers: ER22-2980-000.

Applicants: Midcontinent Independent System Operator, Inc.

Description: Annual Calculation of the Cost of New Entry value (“CONE”) for each Local Resource Zone (“LRZ”) in the MISO Region of Midcontinent Independent System Operator, Inc.

Filed Date: 9/30/22.

Accession Number: 20220930-5286.

Comment Date: 5 p.m. ET 10/21/22.

Docket Numbers: ER22-2981-000.

Applicants: TransAlta Energy Marketing (U.S.) Inc.

Description: Compliance filing: Notice and Justification for Spot Sales above WECC Soft Cap to be effective N/A.

Filed Date: 9/30/22.

Accession Number: 20220930-5289.

Comment Date: 5 p.m. ET 10/21/22.

Docket Numbers: ER22-2982-000.

Applicants: New England Power Pool Participants Committee.

Description: § 205(d) Rate Filing: Oct 2022 Membership Filing to be effective 9/1/2022.

Filed Date: 9/30/22.

Accession Number: 20220930-5334.

Comment Date: 5 p.m. ET 10/21/22.

Docket Numbers: ER22-2983-000.

Applicants: Ohio Power Company.

Description: § 205(d) Rate Filing: Ohio Power MBR Revision to be effective 11/28/2022.

Filed Date: 9/30/22.

Accession Number: 20220930-5371.

Comment Date: 5 p.m. ET 10/21/22.

Docket Numbers: ER22-2984-000.

Applicants: PJM Interconnection, L.L.C.

Description: § 205(d) Rate Filing: Periodic Review of Variable Resource Requirement Curve Shape and Key Parameters to be effective 12/1/2022.

Filed Date: 9/30/22.

Accession Number: 20220930-5374.

Comment Date: 5 p.m. ET 10/21/22.

Docket Numbers: ER22-2985-000.

Applicants: El Paso Electric Company.

Description: § 205(d) Rate Filing: OATT Revisions Related to CAISO Western Energy Imbalance Market (EIM) to be effective 1/25/2023.

Filed Date: 9/30/22.

Accession Number: 20220930-5392.

Comment Date: 5 p.m. ET 10/21/22.

Take notice that the Commission received the following electric securities filings:

Docket Numbers: ES22-58-000.

Applicants: Massachusetts Electric Company, Nantucket Electric Company, Niagara Mohawk Power Corporation, New England Hydro-Transmission Electric Company, Inc, New England Power Company, National Grid Generation LLC.

Description: National Grid USA, on behalf of New England Hydro-Transmission Elec. Co., submits Revised Application under FPA Section 204 and Request for Expedited Comment Period and Order.

Filed Date: 9/30/22.

Accession Number: 20220930-5093.

Comment Date: 5 p.m. ET 10/21/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2022.
Debbie-Anne A. Reese,
Deputy Secretary.

[FR Doc. 2022-21778 Filed 10-5-22; 8:45 am]

BILLING CODE 6717-01-P